DEPARTMENT OF HOUSING AND URBAN DEVELOPMENT

[Docket No. FR-4579-FA-19]

Announcement of Funding Awards for Fiscal Year 2002 for the Housing Choice Voucher Program

AGENCY: Office of the Assistant Secretary for Public and Indian Housing, HUD.

ACTION: Announcement of funding awards.

SUMMARY: In accordance with Section 102(a)(4)(C) of the Department of Housing and Urban Development Reform Act of 1989, this document notifies the public of funding awards for Fiscal Year (FY) 2002 to housing agencies (HAs) under the Section 8 housing choice voucher program. The purpose of this notice is to publish the names, addresses, and the amount of the awards to housing agencies for housing conversion actions, special housing conversion fees, public housing relocations and replacements, and Section 8 counseling.

FOR FURTHER INFORMATION CONTACT: Deborah Hernandez, Acting Director, Office of Housing Voucher Programs, Office of Public and Indian Housing, Room 4232, Department of Housing and Urban Development, 451 Seventh Street, SW., Washington, DC 20410-8000, telephone (202) 708-2934. Hearing-or speech-impaired individuals may call HUD's TDD number (202) 708-4594. (These telephone numbers are not toll-free.)

SUPPLEMENTARY INFORMATION: The regulations governing the housing choice voucher program are published at 24 CFR 982. The regulations for allocating housing assistance budget authority under Section 213(d) of the Housing and Community Development Act of 1974 are published at 24 CFR Part 791, Subpart D.

The purpose of this rental assistance program is to assist eligible families to pay the rent for decent, safe, and sanitary housing. The FY 2002 awardees announced in this notice were provided Section 8 funds on an as needed basis, i.e., not consistent with the provisions of a Notice of Funding Availability (NOFAs). Announcements of awards provided consistent with NOFAs for family unification, mainstream housing, designated housing programs, and family self-sufficiency coordinators will be published in a separated Federal Register notice.

Awards published under this notice were provided (1) to assist families living in HUD-owned properties that are being sold; (2) to assist families affected by the expiration or termination of assistance; (3) to assist families in properties where the owner has prepaid the HUD mortgage; (4) to provide special housing fees to compensate housing agencies for any extraordinary Section 8 administrative costs associated with the previous three categories; (5) to provide relocation and replacement housing in connection with the demolition of public housing; and (6) to provide counseling and assistance to families so that they may move to areas that have low racial and ethnic concentrations.

A total of $142,295,161 in budget authority for rental vouchers (22,839 units) was awarded to recipients under all of the above-mentioned categories.

In accordance with Section 102(a)(4)(C) of the Department of Housing and Urban Development Reform Act of 1989 (103 Stat. 1987, U.S.C. 3545), the Department is publishing the names, addresses, and amounts of those awards as shown in Appendix A.

Dated: November 1, 2002.
Michael Liu,
Assistant Secretary for Public and Indian Housing.

Appendix A.—Section 8 Rental Assistance Programs Announcement of Awards for Fiscal Year 2002
Housing agency | Address | Units | Award
PROPERTY DISPOSITION FEES
SAN FRANCISCO HSG AUTH | 440 TURK STREET, SAN FRANCISCO, CA 94102 | 0 | $5,250
HA OF ATLANTA GA | 230 JOHN WESLEY DOBBS AVE., NE., ATLANTA, GA 30303 | 0 | 23,000
INDIANAPOLIS HSG AGENCY | 1919 N. MERIDIAN STREET, INDIANAPOLIS, IN 46202 | 0 | 32,750
FORD COUNTY HSG AUTH | P.O. BOX 1636, DODGE CITY, KS 67801 | 0 | 16,000
WEST CENTRAL HSG AUTH | P.O. BOX 599, OGALLALA, NE 69153 | 0 | 250
OKLAHOMA HSG FIN AGENCY | P.O. BOX 26720, OKLAHOMA CITY, OK 73126 | 0 | 7,750
HSG AUTH CITY OF PITTSBURG | 200 ROSS STREET, PITTSBURGH, PA 15219 | 0 | 43,250
LANCASTER HSG AUTH | 325 CHURCH STREET, LANCASTER, PA 17602 | 0 | 1,750
JACKSONVILLE HSG AUTH | 301 E COMMERCE, 2ND FL, JACKSONVILLE, TX 75766 | 0 | 15,250
Total for Property Disposition Fees | 0 | $145,250
PRESERVATION/PREPAYMENT FEES
MOBILE HOUSING BOARD | P.O. BOX 1345, MOBILE, AL 36633 | 0 | 23,000
HA OF ANNISTON | P.O. BOX 2225, ANNISTON, AL 36202 | 0 | 2,000
HA OF TUSCALOOSA | P.O. BOX 2281, TUSCALOOSA, AL 35403 | 0 | 16,750
NORTH LITTLE ROCK HA | PO BOX 516, NORTH LITTLE ROCK, AR 72115 | 0 | 25,750
TEMPE HSG AUTH | 132 E. 6TH ST, STE 201, P.O. BOX 5002, TEMPE, AZ 85280 | 0 | 11,000
LOS ANGELES COUNTY HA | 2 CORAL CIRCLE, MONTEREY PARK, CA 91755 | 0 | 4,750
SACRAMENTO HSG & REDEV | P.O. BOX 1834, SACRAMENTO, CA 95812 | 0 | 47,500
YOLO COUNTY HSG AUTH | P.O. BOX 1867, WOODLAND, CA 95776 | 0 | 24,250
SAN DIEGO HSG COMMISSION | 1625 NEWTON AVE., SAN DIEGO, CA 92113 | 0 | 12,750
CITY OF REDDING HSG AUTH | P.O. BOX 496071, 777 CYPRESS AVE., REDDING, CA 96049 | 0 | 12,500
BOULDER CITY HSG AUTH | 3120 BROADWAY, BOULDER, CO 80304 | 0 | 4,250
D.C HOUSING AUTHORITY | 1133 NORTH CAPITOL ST, NE., WASHINGTON, DC 20002 | 0 | 81,500
HA OF COLUMBUS GA | P.O. BOX 630, COLUMBUS, GA 31902 | 0 | 13,750
HA OF ATLANTA GA | 230 JOHN WESLEY DOBBS AVE., NE., ATLANTA, GA 30303 | 0 | 7,500
DCA | 60 EXECUTIVE PARK SO., NE STE 250, ATLANTA, GA 30329 | 0 | 15,750
SOUTHERN IOWA REG HSG AUTH | 219 N PINE, CRESTON, IA 50801 | 0 | 750
NORTHWEST IOWA REG HA | P.O. BOX 7980, 125 WEST 4TH ST., SPENCER, IA 51301 | 0 | 750
CENTRAL IOWA REG HA | 950 OFFICE PARK RD., STE 321, WEST DES MOINES, IA 50265 | 0 | 7,500
CHICAGO HSG AUTH | 626 WEST JACKSON BLVD., CHICAGO, IL 60661 | 0 | 11,750
OGLE COUNTY HSG AUTH | 407 NORTH UNION STREET, POLO, IL 61064 | 0 | 11,250
FORT WAYNE HA-CITY OF FORT WAY | P.O. BOX 13489, FORT WAYNE, IN 46869 | 0 | 40,750
INDIANA DEPT OF HUMAN SERVICES | P.O. BOX 6116, INDIANAPOLIS, IN 46206 | 0 | 50,000
TOPEKA HSG AUTH | 2010 SE CALIFORNIA AVE., TOPEKA, KS 66607 | 0 | 11,500
CAMBRIDGE HSG AUTH | 675 MASSACHUSETTS AVENUE, CAMBRIDGE, MA 02139 | 0 | 6,250
HARFORD COUNTY HSG AGENCY | 15 SOUTH MAIN STREET SUITE 106, BEL AIR, MD 21014 | 0 | 13,500
MD DEPT OF HSG & COMM DEV | 100 COMMUNITY PLACE, CROWNSVILLE, MD 21032 | 0 | 16,500
LANSING HSG COMMISSION | 310 NORTH SEYMOUR STREET, LANSING, MI 48933 | 0 | 57,500
MOUNT PLEASANT HSG COMM | ONE MOSHER STREET, MOUNT PLEASANT, MI 48858 | 0 | 32,500
MICHIGAN STATE HSG DEV AUTH | P.O. BOX 30044, LANSING, MI 48909 | 0 | 34,250
ST. PAUL PHA | 480 CEDAR STREET, ST. PAUL, MN 55101 | 0 | 2,750
DETROIT LAKES HRA | P.O. BOX 731, DETROIT LAKES, MN 56501 | 0 | 13,000
METROPOLITAN COUNCIL HRA | 230 EAST FIFTH STREET, ST. PAUL, MN 55101 | 0 | 59,750
WASHINGTON COUNTY HRA | 321 BROADWAY AVENUE, ST. PAUL PARK, MN 55071 | 0 | 15,000
SOUTH CENTRAL MULTI-COUNTY HRA | 410 JACKSON STREET, STE 100, MANKATO, MN 56002 | 0 | 7,000
INDEPENDENCE HSG AUTH | 210 SOUTH PLEASANT, INDEPENDENCE, MO 64050 | 0 | 16,500
MANCHESTER HSG AUTH | 198 HANOVER STREET, MANCHESTER, NH 03104 | 0 | 33,750
NEWARK HSG AUTH | 57 SUSSEX AVENUE, NEWARK, NJ 07103 | 0 | 24,750
JERSEY CITY HSG AUTH | 400 U.S. HIGHWAY #1, JERSEY CITY, NJ 07306 | 0 | 13,250
CITY OF RENO HSG AUTH | 1525 EAST NINTH ST, RENO, NV 89512 | 0 | 30,750
NEW YORK CITY HSG AUTH | 250 BROADWAY, NEW YORK, NY 10007 | 0 | 189,000
THE CITY OF NEW YORK DHPD | 100 GOLD STREET, ROOM 5N, NEW YORK, NY 10038 | 0 | 289,250
NEW YORK STATE HSG FIN AGENCY | 25 BEAVER STREET, RM 674, NEW YORK, NY 10004 | 0 | 45,000
LUCAS MHA | P.O. BOX 477, 435 NEBRASKA AVE., TOLEDO, OH 43602 | 0 | 50,000
LAKE MHA | 189 FIRST STREET, PAINESVILLE, OH 44077 | 0 | 45,000
OKLAHOMA HSG FIN AGENCY | P.O. BOX 26720, OKLAHOMA CITY, OK 73126 | 0 | 19,000
BUCKS COUNTY HSG AUTH | 350 SO. MAIN ST., STE 205, DOYLESTOWN, PA 18901 | 0 | 88,000
LEBANON COUNTY HSG AUTH | 303 CHESTNUT STREET, LEBANON, PA 17042 | 0 | 37,500
CUMBERLAND COUNTY HSG AUTH | 114 NORTH HANOVER STREET, CARLISLE, PA 17013 | 0 | 51,250
HA OF SOUTH CAROLINA REG NO 1 | P.O. BOX 326, LAURENS, SC 29360 | 0 | 12,000
AUSTIN HOUSING AUTHORITY | P.O. BOX 6159, AUSTIN, TX 78762 | 0 | 32,500
DALLAS | 3939 N. HAMPTON RD., DALLAS, TX 75212 | 0 | 1,000
MC ALLEN HSG AUTH | 2301 JASMINE AVE., MC ALLEN, TX 78501 | 0 | 11,250
TARRANT COUNTY | 1200 CIRCLE DR., #100, FORT WORTH, TX 76119 | 0 | 20,500
LANCASTER | 525 W. PLEASANT RUN RD STE K, LANCASTER, TX 75146 | 0 | 25,750
GREENVILLE | 4417 O'NEAL, GREENVILLE, TX 75401 | 0 | 1,750
DALLAS COUNTY | 2377 N. STEMMONS FREEWAY, STE 200—LB 16, DALLAS, TX 75207 | 0 | 14,750
ALAMO AREA COG | 8700 TESORO SUITE 700, SAN ANTONIO, TX 78217 | 0 | 12,000
HA OF ASOTIN COUNTY | 1212 FAIR STREET, CLARKSTON, WA 99403 | 0 | 7,250
HA OF THE CITY OF MILWAUKEE | P.O. BOX 324, 809 NORTH BROADWAY, MILWAUKEE, WI 53201 | 0 | 1,250
BROWN COUNTY HA | 100 N., JEFFERSON ST., ROOM 608, GREEN BAY, WI 54301 | 0 | 14,500
KANAWHA COUNTY HA | P.O. BOX 3826, CHARLESTON, WV 25338 | 0 | 42,500
Total for Preservation/Prepayment Fees | 0 | 1,825,250
PRESERVATION/PREPAYMENT
MOBILE HOUSING BOARD | P.O. BOX 1345, MOBILE, AL 36633 | 108 | 480,816
HA OF ANNISTON | P.O. BOX 2225, ANNISTON, AL 36202 | 19 | 66,804
HA OF TUSCALOOSA | P.O. BOX 2281, TUSCALOOSA, AL 35403 | 70 | 256,200
NORTH LITTLE ROCK HA | P.O. BOX 516, NORTH LITTLE ROCK, AR 72115 | 107 | 471,228
TEMPE HSG AUTH | 132 E. 6TH ST., STE 201, P.O. BOX 5002, TEMPE, AZ 85280 | 44 | 252,912
LOS ANGELES COUNTY HA | 2 CORAL CIRCLE, MONTEREY PARK, CA 91755 | 19 | 127,224
SACRAMENTO HSG & REDEV | P.O. BOX 1834, SACRAMENTO, CA 95812 | 90 | 950,920
YOLO COUNTY HSG AUTH | P.O. BOX 1867, WOODLAND, CA 95776 | 97 | 498,192
SAN DIEGO HSG COMMISSION | 1625 NEWTON AVE., SAN DIEGO, CA 92113 | 51 | 328,032
CITY OF REDDING HSG AUTH | P.O. BOX 496071, 777 CYPRESS AVE., REDDING, CA 96049 | 100 | 390,000
BOULDER CITY HSG AUTH | 3120 BROADWAY, BOULDER, CO 80304 | 17 | 120,972
CONN DEPT OF SOCIAL SERVICES | 25 SIGOURNEY ST., 9TH FLOOR, HARTFORD, CT 06105 | 71 | 512,902
D.C. HOUSING AUTHORITY | 1133 NORTH CAPITOL ST., NE., WASHINGTON, DC 20002 | 328 | 2,727,648
HA OF COLUMBUS GA | P.O. BOX 630, COLUMBUS, GA 31902 | 58 | 212,280
HA OF ATLANTA GA | 230 JOHN WESLEY DOBBS AVE., NE., ATLANTA, GA 30303 | 30 | 219,240
DCA | 60 EXECUTIVE PARK SO, NE. STE 250, ATLANTA, GA 30329 | 94 | 451,200
SOUTHERN IOWA REG HSG AUTH | 219 N PINE, CRESTON, IA 50801 | 6 | 19,224
NORTHWEST IOWA REG HA | P.O. BOX 7980, 125 WEST 4TH STREET, SPENCER, IA 51301 | 8 | 21,792
CENTRAL IOWA REG HSG AUTH | 950 OFFICE PARK ROAD STE 321, WEST DES MOINES, IA 50265 | 58 | 203,928
CHICAGO HSG AUTH | 626 WEST JACKSON BLVD, CHICAGO, IL 60661 | 58 | 436,392
OGLE COUNTY HSG AUTH | 407 NORTH UNION STREET, POLO, IL 61064 | 48 | 171,648
FORT WAYNE HA-CITY OF FORT WAY | P.O. BOX 13489, FORT WAYNE, IN 46869 | 192 | 937,728
INDIANA DEPT OF HUMAN SERVICES | P.O. BOX 6116, INDIANAPOLIS, IN 46206 | 200 | 847,200
TOPEKA HSG AUTH | 2010 SE CALIFORNIA AVE, TOPEKA, KS 66607 | 75 | 336,600
CAMBRIDGE HSG AUTH | 675 MASSACHUSETTS AVENUE, CAMBRIDGE, MA 02139 | 25 | 309,900
HARFORD COUNTY HSG AGENCY | 15 SOUTH MAIN STREET, SUITE 106, BEL AIR, MD 21014 | 54 | 258,552
MD DEPT OF HSG & COMM DEV | 100 COMMUNITY PLACE, CROWNSVILLE, MD 21032 | 66 | 255,024
LANSING HSG COMMISSION | 310 NORTH SEYMOUR ST, LANSING, MI 48933 | 252 | 1,209,600
MOUNT PLEASANT HSG COMM | ONE MOSHER STREET, MOUNT PLEASANT, MI 48858 | 130 | 511,680
MICHIGAN STATE HSG DEV AUTH | P.O. BOX 30044, LANSING, MI 48909 | 155 | 781,200
ST PAUL PHA | 480 CEDAR STREET, ST. PAUL, MN 55101 | 214 | 1,389,288
DULUTH HRA | P.O. BOX 16900, DULUTH, MN 55816 | 42 | 190,800
DETROIT LAKES HRA | P.O. BOX 731, DETROIT LAKES, MN 56501 | 53 | 144,372
METROPOLITAN COUNCIL HRA | 230 EAST FIFTH STREET, ST. PAUL, MN 55101 | 240 | 1,372,296
SOUTH CENTRAL MULTI-COUNTY HRA | 410 JACKSON STREET, SUITE 100, MANKATO, MN 56002 | 28 | 92,736
INDEPENDENCE HSG AUTH | 210 SOUTH PLEASANT, INDEPENDENCE, MO 64050 | 110 | 546,480
MANCHESTER HSG AUTH | 198 HANOVER STREET, MANCHESTER, NH 03104 | 135 | 638,280
NEWARK HSG AUTH | 57 SUSSEX AVENUE, NEWARK, NJ 07103 | 99 | 651,024
JERSEY CITY HSG AUTH | 400 U.S. HIGHWAY #1, JERSEY CITY, NJ 07306 | 48 | 382,800
NEW YORK CITY HSG AUTH | 250 BROADWAY, NEW YORK, NY 10007 | 758 | 5,512,176
THE CITY OF NEW YORK DHPD | 100 GOLD STREET ROOM 5N, NEW YORK, NY 10038 | 1,157 | 7,469,592
NEW YORK STATE HSG FIN AGENCY | 25 BEAVER STREET, RM 674, NEW YORK, NY 10004 | 180 | 1,451,520
LUCAS MHA | P.O. BOX 477, 435 NEBRASKA AVENUE, TOLEDO, OH 43602 | 200 | 825,600
LAKE MHA | 189 FIRST STREET, PAINESVILLE, OH 44077 | 182 | 884,520
OKLAHOMA HSG FIN AGENCY | P.O. BOX 26720, OKLAHOMA CITY, OK 73126 | 76 | 342,000
BUCKS COUNTY HSG AUTH | 350 SOUTH MAIN STREET, SUITE 205, DOYLESTOWN, PA 18901 | 352 | 1,938,816
LEBANON COUNTY HSG AUTH | 303 CHESTNUT STREET, LEBANON, PA 17042 | 150 | 541,800
CUMBERLAND COUNTY HA | 114 NORTH HANOVER STREET, CARLISLE, PA 17013 | 208 | 818,688
HA SOUTH CAROLINA REG NO 1 | P.O. BOX 326, LAURENS, SC 29360 | 60 | 230,400
DALLAS HSG AUTH | 3939 N. HAMPTON RD., DALLAS, TX 75212 | 4 | 30,240
MC ALLEN HSG AUTH | 2301 JASMINE AVE, MC ALLEN, TX 78501 | 48 | 183,168
CISCO HOUSING AUTHORITY | 714 EAST 10TH STREET, CISCO, TX 76437 | 0 | 91,123
TARRANT COUNTY | 1200 CIRCLE DR, #100, FORT WORTH, TX 76119 | 82 | 436,896
LANCASTER HSG AUTH | 525 WEST PLEASANT RUN RD, STE K, LANCASTER, TX 75146 | 104 | 655,200
GREENVILLE HSG AUTH | 4417 O'NEAL, GREENVILLE, TX 75401 | 7 | 35,700
DALLAS COUNTY | 2377 N. STEMMONS FREEWAY, STE 200—LB 16, DALLAS, TX 75207 | 74 | 482,184
ALAMO AREA COG | 8700 TESORO SUITE 700, SAN ANTONIO, TX 78217 | 48 | 164,736
HA OF ASOTIN COUNTY | 1212 FAIR STREET, CLARKSTON, WA 99403 | 29 | 124,584
BROWN COUNTY HA | 100 N JEFFERSON STREET, RM 608, GREEN BAY, WI 54301 | 58 | 205,320
KANAWHA COUNTY HA | P.O. BOX 3826, CHARLESTON, WV 25338 | 177 | 828,360
Total for Preservation/Prepayment | 7,553 | $43,027,737
PROPERTY DISPOSITION RELOCATION
SAN FRANCISCO HSG AUTH | 440 TURK STREET, SAN FRANCISCO, CA 94102 | 24 | 260,928
ADAMS COUNTY | 7190 COLORADO BLVD, 6TH FL, COMMERCE CITY, CO 80022 | 82 | 609,096
BROWARD COUNTY HSG AUTH | 1773 NORTH STATE ROAD 7, LAUDERHILL, FL 33313 | 108 | 716,688
HA OF ATLANTA GA | 230 JOHN WESLEY DOBBS AVE. NE, ATLANTA, GA 30303 | 120 | 876,960
SOUTHERN IOWA REG HSG AUTH | 219 N. PINE, CRESTON, IA 50801 | 23 | 73,692
REGIONAL HSG AUTH—VOUCHER XI | 108 WEST 6TH ST, P.O. BOX 663, CARROLL, IA 51401 | 55 | 143,220
INDIANAPOLIS HOUSING AGENCY | 1919 N. MERIDIAN ST, INDIANAPOLIS, IN 46202 | 134 | 643,200
FORD COUNTY HSG AUTH | P.O. BOX 1636, DODGE CITY, KS 67801 | 96 | 291,456
OWENSBORO HSG AUTH | 2161 EAST 19TH STREET, OWENSBORO, KY 42303 | 38 | 130,872
APPALACHIAN FOOTHILLS HA | 1214 RIVERSIDE BOULEVARD, WURTLAND, KY 41144 | 32 | 128,640
H.A.K.C. | 301 EASTARMOUR BLVD, KANSAS CITY, MO 64111 | 48 | 243,648
GASTONIA HSG AUTH | 340 W. LONG AVENUE P.O. BOX 2398, GASTONIA, NC 28053 | 82 | 378,840
WEST CENTRAL HSG AUTH | P.O. BOX 599, OGALLALA, NE 69153 | 8 | 23,808
CLOVIS HOUSING AUTHORITY | P.O. BOX 1240, 2101 W. GRAND AVE., CLOVIS, NM 88102 | 50 | 153,000
NEW YORK CITY HSG AUTH | 250 BROADWAY, NEW YORK, NY 10007 | 164 | 1,192,608
OKLAHOMA HSG FIN AGENCY | P.O. BOX 26720, OKLAHOMA CITY, OK 73126 | 98 | 216,000
HA OF CITY OF PITTSBURG | 200 ROSS STREET, PITTSBURGH, PA 15219 | 399 | 1,891,260
PHILADELPHIA HSG AUTH | 12 SOUTH 23RD STREET, PHILADELPHIA, PA 19103 | 218 | 1,600,992
LANCASTER HSG AUTH | 325 CHURCH STREET, LANCASTER, PA 17602 | 8 | 40,704
BROOKINGS HSG AUTH | 1310 MAIN AVE. SOUTH, BROOKINGS, SD 57006 | 18 | 63,288
SAN BENITO HSG AUTH | P.O. BOX 1900, SAN BENITO, TX 78586 | 65 | 277,680
CISCO HSG AUTH | 714 EAST 10TH STREET, CISCO, TX 76437 | 68 | 204,816
ARLINGTON HSG AUTH | 501 W. SANFORD, SUITE 20, ARLINGTON, TX 76011 | 44 | 261,888
CITY OF PASADENA HSG AUTH | P.O. BOX 672, PASADENA, TX 77501 | 76 | 397,632
JACKSONVILLE HSG AUTH | 301 E COMMERCE, 2ND.FL, JACKSONVILLE, TX 75766 | 64 | 273,408
Total for Property Disposition Relocation | 2,122 | 11,094,324
PUBLIC HOUSING RELOCATION/REPLACEMENTS
HA OF CITY OF MONTGOMERY | 1020 BELL ST, MONTGOMERY, AL 36104 | 230 | 1,059,840
HA OF HUNTSVILLE | P.O. BOX 486, HUNTSVILLE, AL 35804 | 76 | 329,232
CITY OF PHOENIX | 251 W. WASHINGTON ST, 4TH FL, PHOENIX, AZ 85034 | 364 | 2,197,104
SAN FRANCISCO HSG AUTH | 440 TURK STREET, SAN FRANCISCO, CA 94102 | 150 | 1,960,200
CITY OF FRESNO HSG AUTH | 1331 FULTON MALL, FRESNO, CA 93776 | 36 | 172,800
ORLANDO H/A | 300 REEVES COURT, ORLANDO, FL 32801 | 90 | 498,780
HA OF FORT LAUDERDALE CITY | 437 S W 4TH AVENUE, FORT LAUDERDALE, FL 33315 | 100 | 583,200
HA OF ATLANTA GA | 230 JOHN WESLEY DOBBS AVE. NE, ATLANTA, GA 30303 | 444 | 3,489,840
HA OF FULTON COUNTY | 10 PARK PLACE SE, SUITE 550, ATLANTA, GA 30303 | 144 | 855,360
CHICAGO HSG AUTH | 626 WEST JACKSON BLVD, CHICAGO, IL 60661 | 2,469 | 19,347,084
CHRISTIAN CTY HA | P.O. BOX 86, PANA, IL 62557 | 32 | 110,208
NEW ORLEANS HSG AUTH | 4100 TOURO STREET, NEW ORLEANS, LA 70122 | 120 | 665,280
HSG AUTH OF BALTIMORE CITY | 417 EAST FAYETTE STREET, BALTIMORE, MD 21201 | 575 | 3,077,400
HAGERSTOWN HSG AUTH | 35 WEST BALTIMORE ST, HAGERSTOWN, MD 21740 | 97 | 416,712
EAST GRAND FORKS ECON DEV HA | P.O. BOX 439, EAST GRAND FORKS, MN 56721 | 65 | 295,620
BURLEIGH COUNTY HSG AUTH | 410 SOUTH 2ND STREET, BISMARCK, ND 58504 | 34 | 137,088
ATLANTIC CITY HA | 227 VERMONT AVE, P.O. BOX 1258, ATLANTIC CITY, NJ 08404 | 40 | 299,040
EAST ORANGE HSG AUTH | 160 HALSTED STREET, EAST ORANGE, NJ 07018 | 9 | 75,294
CITY OF LAS VEGAS HSG AUTH | 420 N. 10TH STREET P.O. BOX 1897, LAS VEGAS, NV 89125 | 102 | 807,840
MERCER COUNTY HSG AUTH | 80 JEFFERSON AVENUE P.O. BOX 683, SHARON, PA 16146 | 76 | 234,384
NEWPORT HSG AUTH | 1 YORK STREET, NEWPORT, RI 02840 | 33 | 260,964
HA OF NORTH CHARLESTON | P.O. BOX 70987, NORTH CHARLESTON, SC 29415 | 140 | 666,960
METROPOLITAN DEV & HA | 701 SOUTH SIXTH ST, P.O. BOX 846, NASHVILLE, TN 37202 | 66 | 380,160
FORT WORTH HSG AUTH | P.O. BOX 430, 1201 E. 13TH ST, FORT WORTH, TX 76101 | 268 | 1,382,880
HA COUNTY OF KING | 600 ANDOVER PARK WEST, TUKWILA, WA 98188 | 279 | 2,290,032
Total for Public Housing Relocation/Replacements | 6,039 | 41,593,302
SECTION 8 COUNSELING
PORT ARTHUR HSG AUTH | P.O. BOX 2295, 920 DEQUEEN BLVD, PORT ARTHUR, TX 77643 | 0 | 1,200,000
Total for Section 8 Counseling | 0 | 1,200,000
TERMINATIONS/OPTOUTS/PD RELOCATION FEES
AK HSG FINANCE CORP | P.O. BOX 101020, ANCHORAGE, AK 99510 | 0 | 13,750
HA OF BIRMINGHAM DISTRICT | 1826 3RD AVE. SOUTH, BIRMINGHAM, AL 35233 | 0 | 45,500
HA OF PRICHARD | P.O. BOX 10307, PRICHARD, AL 36610 | 0 | 4,250
HA OF THE CITY OF PINE BLUFF | P.O. BOX 8872, PINE BLUFF, AR 71611 | 0 | 1,750
JACKSONVILLE HSG AUTH | P.O. BOX 734, JACKSONVILLE, AR 72076 | 0 | 5,000
TUCSON HSG MANAGEMENT DIV | 310 NORTH COMMERCE PARK LOOP, TUCSON, AZ 85726 | 0 | 36,000
LOS ANGELES COUNTY HSG AUTH | 2 CORAL CIRCLE, MONTEREY PARK, CA 91755 | 0 | 42,000
CITY OF LOS ANGELES HSG AUTH | 2600 WILSHIRE BLVD, 3RD FL, LOS ANGELES, CA 90057 | 0 | 66,000
COUNTY OF SAN JOAQUIN HA | 448 SOUTH CENTER ST, P.O. BOX 447, STOCKTON, CA 95203 | 0 | 24,500
SAN BUENAVENTURA HSG AUTH | 995 RIVERSIDE STREET, VENTURA, CA 93003 | 0 | 24,250
COUNTY OF SANTA CLARA HA | 505 WEST JULIAN ST, SAN JOSE, CA 95110 | 0 | 2,500
CITY OF PITTSBURG HSG AUTH | 333 EAST LELAND RD, PITTSBURG, CA 94565 | 0 | 29,250
SAN DIEGO HSG COMMISSION | 1625 NEWTON AVE, SAN DIEGO, CA 92113 | 0 | 4,250
ALAMEDA COUNTY HSG AUTH | 22941 ATHERTON STREET, HAYWARD, CA 94541 | 0 | 9,000
ORANGE COUNTY HSG AUTH | 1770 NORTH BROADWAY, SANTA ANA, CA 92706 | 0 | 18,250
AURORA HSG AUTH | 10745 E. KENTUCKY AVENUE, AURORA, CO 80012 | 0 | 18,500
CO DEPT OF HUMAN SERVICES | 4131 S. JULIAN WAY, DENVER, CO 80236 | 0 | 2,250
BRIDGEPORT HSG AUTH | 150 HIGHLAND AVENUE, BRIDGEPORT, CT 06604 | 0 | 9,000
HA OF CITY OF NEW HAVEN | 360 ORANGE STREET, NEW HAVEN, CT 06511 | 0 | 18,250
D.C. HOUSING AUTHORITY | 1133 NORTH CAPITOL ST. NE., WASHINGTON, DC 20002 | 0 | 63,000
NEW CASTLE COUNTY | 87 READ'S WAY, NEW CASTLE, DE 19720 | 0 | 15,500
HA OF TAMPA | 1514 UNION ST, P.O. BOX 4766, TAMPA, FL 33607 | 0 | 3,000
HA OF THE CITY OF TITUSVILLE | 524 S. HOPKINS AVE., TITUSVILLE, FL 32782 | 0 | 9,250
HIALEAH HSG AUTH | 70 EAST 7TH STREET, HIALEAH, FL 33010 | 0 | 12,000
HILLSBOROUGH COUNTY-BOCC | 9260 BAY PLAZA BOULEVARD, STE 510, TAMPA, FL 33619 | 0 | 7,250
HA OF SAVANNAH | P.O. BOX 1179, SAVANNAH, GA 31402 | 0 | 5,500
HA OF ATLANTA GA | 230 JOHN WESLEY DOBBS AVE., NE., ATLANTA, GA 30303 | 0 | 66,250
CITY OF MARIETTA HA | P.O. BOX 609, MARIETTA, GA 30061 | 0 | 6,250
DCA | 60 EXECUTIVE PARK SO, NE STE 250, ATLANTA, GA 30329 | 0 | 6,000
CITY & COUNTY OF HONOLULU | 715 SOUTH KING ST., SUITE 311, HONOLULU, HI 96813 | 0 | 2,750
SIOUX CITY HSG AUTH | CITY HALL P.O. BOX 447, SIOUX CITY, IA 51102 | 0 | 1,250
AREA XV MULTI-COUNTY HA | 417 NORTH COLLEGE P.O. BOX 276, AGENCY, IA 52530 | 0 | 12,250
EASTERN IOWA REG HSG | 330 NESLER CENTRE P.O. BOX 1140, DUBUQUE, IA 52001 | 0 | 5,750
CENTRAL IOWA REG HSG AUTH | 950 OFFICE PARK ROAD, STE 321, WEST DES MOINES, IA 50265 | 0 | 750
IOWA NORTHLAND REG HA | 2530 UNIVERSITY AVE., SUITE #5, WATERLOO, IA 50701 | 0 | 2,250
HA OF CITY OF POCATELLO | P.O. BOX 4161, POCATELLO, ID 83205 | 0 | 26,250
IDAHO HSG & FINANCE ASSN | 565 W MYRTLE STREET, P.O. BOX 7899, BOISE, ID 83707 | 0 | 4,250
CHICAGO HSG AUTH | 626 WEST JACKSON BLVD., CHICAGO, IL 60661 | 0 | 23,250
GREATER MAH OF ROCK ISLAND | 325 SECOND STREET, SILVIS, IL 61282 | 0 | 19,000
JACKSON COUNTY HSG AUTH | P.O. BOX 1209, MURPHYSBORO, IL 62966 | 0 | 12,000
HA OF CITY OF EVANSVILLE | P.O. BOX 3605, 500 COURT STREET, EVANSVILLE, IN 47735 | 0 | 9,250
INDIANAPOLIS HOUSING AGENCY | 1919 N. MERIDIAN STREET, INDIANAPOLIS, IN 46202 | 0 | 9,000
NEK-CAP, INC | P.O. BOX 380, HIAWATHA, KS 66434 | 0 | 10,000
KENTUCKY HSG CORP | 1231 LOUISVILLE ROAD, FRANKFORT, KY 40601 | 0 | 22,500
JEFFERSON PARISH HA | 1718 BETTY STREET, MARRERO, LA 70072 | 0 | 15,500
CAMBRIDGE HSG AUTH | 675 MASSACHUSETTS AVE., CAMBRIDGE, MA 02139 | 0 | 4,250
WAKEFIELD HSG AUTH | 26 CRESCENT ST., WAKEFIELD, MA 01880 | 0 | 11,000
HA OF BALTIMORE CITY | 417 EAST FAYETTE STREET, BALTIMORE, MD 21201 | 0 | 35,000
HA OF THE CITY OF FREDERICK | 209 MADISON STREET, FREDERICK, MD 21701 | 0 | 6,000
MONTGOMERY CO HSG AUTH | 10400 DETRICK AVENUE, KENSINGTON, MD 20895 | 0 | 34,000
HA OF PRINCE GEORGE'S CO | 9400 PEPPERCORN PLACE, STE 200, LARGO, MD 20774 | 0 | 12,000
ANNE ARUNDEL COUNTY HA | 7885 GORDON COURT, P.O. BOX 0817, GLEN BURNIE, MD 21060 | 0 | 21,750
HOWARD COUNTY HSG COMM | 6751 COLUMBIA GATEWAY DR., 3RD FL., COLUMBIA, MD 21046 | 0 | 12,000
DETROIT HSG COMMISSION | 1301 EAST JEFFERSON AVENUE, DETROIT, MI 48207 | 0 | 9,750
LIVONIA HSG COMMISSION | 19300 PURLINGBROOK ROAD, LIVONIA, MI 48152 | 0 | 4,500
MICHIGAN STATE HSG DEV AUTH | P.O. BOX 30044, LANSING, MI 48909 | 0 | 22,250
MINNEAPOLIS PHA | 1001 WASHINGTON AVE. NORTH, MINNEAPOLIS, MN 55401 | 0 | 1,000
MOORHEAD PHA | 800 SECOND AVENUE NORTH, MOORHEAD, MN 56560 | 0 | 6,000
H.A.K.C. | 301 EASTARMOUR BLVD., KANSAS CITY, MO 64111 | 0 | 17,750
ST. LOUIS COUNTY HSG AUTH | 8865 NATURAL BRIDGE, ST. LOUIS, MO 63121 | 0 | 12,250
LEES SUMMIT HSG AUTH | 111 SOUTH GRAND, LEES SUMMIT, MO 64063 | 0 | 10,500
RALEIGH HSG AUTH | P.O. BOX 28007, RALEIGH, NC 27611 | 0 | 7,750
HA OF WINSTON-SALEM | 901 CLEVELAND AVENUE, WINSTON-SALEM, NC 27101 | 0 | 250
HA OF DURHAM | 330 E. MAIN STREET, P.O. BOX 1726, DURHAM, NC 27702 | 0 | 3,750
ISOTHERMAL PLAN'G & DEV COMM | 111 W. COURT ST., P.O. BOX 841, RUTHERFORDTON, NC 28139 | 0 | 22,250
PORTSMOUTH HSG AUTH | 245 MIDDLE STREET, PORTSMOUTH, NH 03801 | 0 | 7,500
NEW HAMPSHIRE HSG FIN AGENCY | P.O. BOX 5087, MANCHESTER, NH 03108 | 0 | 12,500
NEWARK HSG AUTH | 57 SUSSEX AVENUE, NEWARK, NJ 07103 | 0 | 43,750
JERSEY CITY HSG AUTH | 400 U.S. HIGHWAY #1, JERSEY CITY, NJ 07306 | 0 | 5,500
EDISON HSG AUTH | WILLARD DUNHAM DRIVE, EDISON, NJ 08837 | 0 | 16,500
NORTH LAS VEGAS HSG AUTH | 1632 YALE STREET, NORTH LAS VEGAS, NV 89030 | 0 | 6,750
COUNTY OF CLARK HSG AUTH | 5390 EAST FLAMINGO ROAD, LAS VEGAS, NV 89122 | 0 | 12,750
NEW YORK CITY HSG AUTH | 250 BROADWAY, NEW YORK, NY 10007 | 0 | 57,750
HEMPSTEAD HSG AUTH | 260 CLINTON STREET, HEMPSTEAD, NY 11550 | 0 | 25,750
NEW YORK STATE HSG FIN AGENCY | 25 BEAVER STREET, RM 674, NEW YORK, NY 10007 | 0 | 43,500
COLUMBUS METRO HA | 880 EAST 11TH AVENUE, COLUMBUS, OH 43211 | 0 | 12,750
CUYAHOGA MHA | 1441 WEST 25TH STREET, CLEVELAND, OH 44113 | 0 | 37,500
CINCINNATI METRO HSG AUTH | 16 WEST CENTRAL PARKWAY, CINCINNATI, OH 45210 | 0 | 20,750
DAYTON METROPOLITAN HA | 400 WAYNE AVE POST OFFICE BOX 8750, DAYTON, OH 45401 | 0 | 46,750
LUCAS MHA | P.O. BOX 477 435 NEBRASKA AVENUE, TOLEDO, OH 43602 | 0 | 23,500
LORAIN MHA | 1600 KANSAS AVENUE, LORAIN, OH 44052 | 0 | 5,250
HAMILTON COUNTY PUB HSG AUTH | 138 EAST COURT STREET, ROOM 507, CINCINNATI, OH 45202 | 0 | 3,000
PARMA PHA | 6901 WEST RIDGEWOOD DRIVE, PARMA, OH 44129 | 0 | 4,500
OKLAHOMA HSG FIN AGENCY | P.O. BOX 26720, OKLAHOMA CITY, OK 73126 | 0 | 69,500
HA OF CHARLESTON | 20 FRANKLIN STREET, CHARLESTON, SC 29401 | 0 | 3,000
HA OF COLUMBIA | 1917 HARDEN STREET, COLUMBIA, SC 29204 | 0 | 6,500
HA OF GREENVILLE | P.O. BOX 10047, GREENVILLE, SC 29603 | 0 | 4,000
MADISON HSG AUTH | 111 S. WASHINGTON AVE., MADISON, SD 57042 | 0 | 2,250
HA OF MEMPHIS | 700 ADAMS AVE, P.O. BOX 3664, MEMPHIS, TN 38103 | 0 | 20,500
METROPOLITAN DEV & HA | 701 SOUTH SIXTH ST, P.O. BOX 846, NASHVILLE, TN 37202 | 0 | 16,000
KINGSPORT HSG & REDEV AUTH | P.O. BOX 44, KINGSPORT, TN 37662 | 0 | 19,250
AUSTIN HSG AUTH | P.O. BOX 6159, AUSTIN, TX 78762 | 0 | 500
HOUSTON HSG AUTH | 2640 FOUNTAIN VIEW, HOUSTON, TX 77057 | 0 | 43,750
WACO HSG AUTH | P.O. BOX 978, 1001 WASHINGTON, WACO, TX 76703 | 0 | 0,500
ARLINGTON HSG AUTH | 501 W. SANFORD, SUITE 20, ARLINGTON, TX 76011 | 0 | 5,750
GRAND PRAIRIE HSG AUTH | 201 NW 2ND ST, STE 150, GRAND PRAIRIE, TX 75053 | 0 | 25,000
GARLAND HSG AUTH | P.O. BOX 469002, 210 CARVER ST, STE 201B, GARLAND, TX 75046 | 0 | 8,500
LANCASTER HSG AUTH | 525 WEST PLEASANT RUN RD STE K, LANCASTER, TX 75146 | 0 | 9,000
HARRIS COUNTY HSG AUTH | 8410 LANTERN POINT, HOUSTON, TX 77054 | 0 | 7,500
FAIRFAX CO RED & HSG AUTH | 3700 PENDER DRIVE SUITE 300, FAIRFAX, VA 22030 | 0 | 12,750
VIRGINIA HSG DEV AUTH | 601 SOUTH BELVIDERE STREET, RICHMOND, VA 23220 | 0 | 13,750
HA OF COUNTY OF KING | 600 ANDOVER PARK WEST, TUKWILA, WA 98188 | 0 | 10,000
HA OF CITY OF TACOMA | 902 SOUTH “L” STREET SUITE 2C, TACOMA, WA 98405 | 0 | 4,500
HA OF CITY OF VANCOUVER | 2500 MAIN STREET, #200, VANCOUVER, WA 98660 | 0 | 6,000
HA OF THE CITY OF MILWAUKEE | P.O. BOX 324 809, NORTH BROADWAY, MILWAUKEE, WI 53201 | 0 | 500
RIVER FALLS HA | 625 NORTH MAIN STREET, RIVER FALLS, WI 54022 | 0 | 1,500
WEST BEND HSG AUTH | 475 MEADOWBROOK DR, WEST BEND, WI 53095 | 0 | 24,250
DANE COUNTY HSG AUTH | 2001 W BROADWAY, SUITE 1, MONONA, WI 53713 | 0 | 5,250
Total for Terminations/Opt-outs/PD Relocation Fees | 0 | 1,714,500
TERMINATIONS/OPT-OUTS
AK HSG FINANCE CORP | P.O. BOX 101020, ANCHORAGE, AK 99510 | 55 | 335,280
HA OF BIRMINGHAM DISTRICT | 1826 3RD AVE. SOUTH, BIRMINGHAM, AL 35233 | 190 | 836,760
HA PRICHARD | P.O. BOX 10307, PRICHARD, AL 36610 | 40 | 185,280
HA OF THE CITY OF PINE BLUFF | P.O. BOX 8872, PINE BLUFF, AR 71611 | 7 | 26,712
JACKSONVILLE HSG AUTH | P.O. BOX 734, JACKSONVILLE, AR 72076 | 20 | 76,080
TUCSON HSG MANAGEMENT DIV | 310 NORTH COMMERCE PARK LOOP, TUCSON, AZ 85726 | 154 | 842,688
LOS ANGELES COUNTY HA | 2 CORAL CIRCLE, MONTEREY PARK, CA 91755 | 168 | 1,163,328
CITY OF LOS ANGELES HA | 2600 WILSHIRE BLVD, 3RD FL, LOS ANGELES, CA 90057 | 264 | 1,708,032
COUNTY OF SAN JOAQUIN HA | 448 SOUTH CENTER ST, P.O. BOX 447, STOCKTON, CA 95203 | 101 | 267,120
SAN BUENAVENTURA HA | 995 RIVERSIDE STREET, VENTURA, CA 93003 | 97 | 663,480
CITY OF PITTSBURG HSG AUTH | 333 EAST LELAND RD, PITTSBURG, CA 94565 | 124 | 952,320
SAN DIEGO HSG COMMISSION | 1625 NEWTON AVE, SAN DIEGO, CA 92113 | 17 | 109,344
ALAMEDA COUNTY HSG AUTH | 22941 ATHERTON STREET, HAYWARD, CA 94541 | 36 | 307,152
ORANGE COUNTY HSG AUTH | 1770 NORTH BROADWAY, SANTA ANA, CA 92706 | 74 | 522,144
AURORA HSG AUTH | 10745 E KENTUCKY AVENUE, AURORA, CO 80012 | 74 | 517,704
CO DEPT OF HS | 4131 S. JULIAN WAY, DENVER, CO 80236 | 13 | 54,600
BRIDGEPORT HSG AUTH | 150 HIGHLAND AVENUE, BRIDGEPORT, CT 06604 | 36 | 230,688
HA OF CITY OF NEW HAVEN | 360 ORANGE STREET, NEW HAVEN, CT 06511 | 77 | 609,840
D.C. HOUSING AUTHORITY | 1133 NORTH CAPITOL ST NE, WASHINGTON, DC 20002 | 301 | 2,503,116
NEW CASTLE COUNTY HA | 87 READ'S WAY, NEW CASTLE, DE 19720 | 100 | 584,400
HA OF TAMPA | 1514 UNION ST P.O. BOX 4766, TAMPA, FL 33607 | 12 | 75,168
HA OF THE CITY OF TITUSVILLE | 524 S. HOPKINS AVE, TITUSVILLE, FL 32782 | 37 | 184,704
HIALEAH HSG AUTH | 70 EAST 7TH STREET, HIALEAH, FL 33010 | 48 | 307,008
HILLSBOROUGH COUNTY-BOCC | 9260 BAY PLAZA BLVD STE 510, TAMPA, FL 33619 | 29 | 150,684
HA OF SAVANNAH | P.O. BOX 1179, SAVANNAH, GA 31402 | 23 | 124,752
HA OF ATLANTA GA | 230 JOHN WESLEY DOBBS AVE NE, ATLANTA, GA 30303 | 285 | 2,082,780
HA OF CITY OF MARIETTA | P.O. BOX 609, MARIETTA, GA 30061 | 26 | 187,512
DCA | 60 EXECUTIVE PARK SOUTH, NE, STE 250, ATLANTA, GA 30329 | 37 | 177,600
CITY & COUNTY OF HONOLULU | 715 SOUTH KING ST., SUITE 311, HONOLULU, HI 96813 | 11 | 89,496
SIOUX CITY HSG AUTH | CITY HALL P.O. BOX 447, SIOUX CITY, IA 51102 | 5 | 19,020
AREA XV MULTI-COUNTY HA | 417 NORTH COLLEGE P.O. BOX 276, AGENCY, IA 52530 | 54 | 160,464
EASTERN IOWA REG HSG AUTH | 330 NESLER CENTRE, P.O. BOX 1140, DUBUQUE, IA 52001 | 24 | 79,776
CENTRAL IOWA REG HSG AUTH | 950 OFFICE PARK RD, STE 321, WEST DES MOINES, IA 50265 | 8 | 28,128
IOWA NORTHLAND REG HA | 2530 UNIVERSITY AVE., STE #5, WATERLOO, IA 50701 | 12 | 39,168
HA OF CITY OF POCATELLO | P.O. BOX 4161, POCATELLO, ID 83205 | 105 | 428,400
IDAHO HSG & FIN ASSN | 565 W. MYRTLE ST., P.O. BOX 7899, BOISE, ID 83707 | 22 | 88,968
CHICAGO HSG AUTH | 626 WEST JACKSON BLVD., CHICAGO, IL 60661 | 94 | 707,226
GREATER MAH OF ROCK ISLAND | 325 SECOND STREET, SILVIS, IL 61282 | 76 | 320,112
JACKSON COUNTY HSG AUTH | P.O. BOX 1209, MURPHYSBORO, IL 62966 | 48 | 176,256
HA CITY OF EVANSVILLE | P.O. BOX 3605 500 COURT ST, EVANSVILLE, IN 47735 | 40 | 159,360
INDIANAPOLIS HSG AGENCY | 1919 N. MERIDIAN STREET, INDIANAPOLIS, IN 46202 | 37 | 177,600
NEK-CAP, INC | P.O. BOX 380, HIAWATHA, KS 66434 | 44 | 117,744
KENTUCKY HSG CORP | 1231 LOUISVILLE ROAD, FRANKFORT, KY 40601 | 107 | 412,164
JEFFERSON PARISH HA | 1718 BETTY STREET, MARRERO, LA 70072 | 62 | 283,464
CAMBRIDGE HSG AUTH | 675 MASSACHUSETTS AVENUE, CAMBRIDGE, MA 02139 | 17 | 210,732
WAKEFIELD HSG AUTH | 26 CRESCENT ST., WAKEFIELD, MA 01880 | 44 | 350,064
HA OF BALTIMORE CITY | 417 EAST FAYETTE STREET, BALTIMORE, MD 21201 | 140 | 720,720
HA OF THE CITY OF FREDERICK | 209 MADISON STREET, FREDERICK, MD 21701 | 24 | 180,288
MONTGOMERY CO HSG AUTH | 10400 DETRICK AVENUE, KENSINGTON, MD 20895 | 86 | 724,464
HA OF PRINCE GEORGE'S CO | 9400 PEPPERCORN PLACE SUITE 200, LARGO, MD 20774 | 48 | 395,136
ANNE ARUNDEL COUNTY HA | 7885 GORDON CT., P.O. BOX 0817, GLEN BURNIE, MD 21060 | 106 | 657,624
HOWARD COUNTY. HSG COMM | 6751 COLUMBIA GATEWAY DR., 3RD FL, COLUMBIA, MD 21046 | 48 | 363,456
DETROIT HSG COMMISSION | 1301 EAST JEFFERSON AVE., DETROIT, MI 48207 | 52 | 321,984
LIVONIA HSG COMMISSION | 19300 PURLINGBROOK ROAD, LIVONIA, MI 48152 | 32 | 178,944
MICHIGAN STATE HSG DEV AUTH | P.O. BOX 30044, LANSING, MI 48909 | 89 | 448,560
MINNEAPOLIS PHA | 1001 WASHINGTON AVE NORTH, MINNEAPOLIS, MN 55401 | 5 | 34,500
METROPOLITAN COUNCIL HRA | 230 EAST FIFTH STREET, ST. PAUL, MN 55101 | 41 | 91,620
H.A.K.C. | 301 EASTARMOUR BLVD., KANSAS CITY, MO 64111 | 73 | 370,548
ST. LOUIS COUNTY HA | 8865 NATURAL BRIDGE, ST. LOUIS, MO 63121 | 66 | 316,800
LEES SUMMIT HSG AUTH | 111 SOUTH GRAND, LEES SUMMIT, MO 64063 | 42 | 210,672
RALEIGH HSG AUTH | P.O. BOX 28007, RALEIGH, NC 27611 | 31 | 194,928
HA OF WINSTON-SALEM | 901 CLEVELAND AVENUE, WINSTON-SALEM, NC 27101 | 4 | 20,880
HA OF DURHAM | 330 E MAIN STREET P.O. BOX 1726, DURHAM, NC 27702 | 16 | 93,696
ISOTHERMAL PLAN'G & DEV COMM | 111 W COURT ST., P.O. BOX 841, RUTHERFORDTON, NC 28139 | 100 | 358,800
PORTSMOUTH HSG AUTH | 245 MIDDLE STREET, PORTSMOUTH, NH 03801 | 30 | 174,960
NEWARK HSG AUTH | 57 SUSSEX AVENUE, NEWARK, NJ 07103 | 175 | 1,150,800
JERSEY CITY HSG AUTH | 400 U.S. HIGHWAY #1, JERSEY CITY, NJ 07306 | 22 | 153,120
EDISON HSG AUTH | WILLARD DUNHAM DRIVE, EDISON, NJ 08837 | 66 | 502,920
NORTH LAS VEGAS HSG AUTH | 1632 YALE STREET, NORTH LAS VEGAS, NV 89030 | 30 | 209,160
COUNTY OF CLARK HSG AUTH | 5390 EAST FLAMINGO ROAD, LAS VEGAS, NV 89122 | 51 | 306,000
NEW YORK CITY HSG AUTH | 250 BROADWAY, NEW YORK, NY 10007 | 231 | 1,679,832
HEMPSTEAD HSG AUTH | 260 CLINTON STREET, HEMPSTEAD, NY 11550 | 103 | 1,067,904
NEW YORK STATE HSG FIN AGENCY | BEAVER STREET, RM 674, NEW YORK, NY 10007 | 178 | 1,435,392
COLUMBUS MHA | 880 EAST 11TH AVENUE, COLUMBUS, OH 43211 | 51 | 261,324
CUYAHOGA MHA | 1441 WEST 25TH STREET, CLEVELAND, OH 44113 | 150 | 813,600
CINCINNATI MHA | 16 WEST CENTRAL PARKWAY, CINCINNATI, OH 45210 | 100 | 464,400
DAYTON METROPOLITAN HA | 400 WAYNE AVE, P.O. BOX 8750, DAYTON, OH 45401 | 240 | 540,000
LUCAS MHA | P.O. BOX 477, 435 NEBRASKA AVE, TOLEDO, OH 43602 | 96 | 396,288
LORAIN MHA | 1600 KANSAS AVENUE, LORAIN, OH 44052 | 24 | 119,808
HAMILTON COUNTY PHA | 138 EAST COURT ST, RM 507, CINCINNATI, OH 45202 | 12 | 61,488
PARMA PHA | 6901 WEST RIDGEWOOD DRIVE, PARMA, OH 44129 | 39 | 171,288
OKLAHOMA HSG FIN AGENCY | P.O. BOX 26720, OKLAHOMA CITY, OK 73126 | 318 | 1,431,000
HA OF CHARLESTON | 20 FRANKLIN STREET, CHARLESTON, SC 29401 | 12 | 54,288
HA OF COLUMBIA | 1917 HARDEN STREET, COLUMBIA, SC 29204 | 26 | 139,464
HA OF GREENVILLE | P.O. BOX 10047, GREENVILLE, SC 29603 | 16 | 66,816
HA OF GREENWOOD | P.O. BOX 973, GREENWOOD, SC 29648 | 0 | 15,984
MADISON HSG AUTH | 111 S. WASHINGTON AVE, MADISON, SD 57042 | 32 | 93,312
HA OF MEMPHIS | 700 ADAMS AVE, P.O. BOX 3664, MEMPHIS, TN 38103 | 82 | 436,896
METROPOLITAN DEV & HA | 701 SOUTH SIXTH ST, P.O. BOX 846, NASHVILLE, TN 37202 | 71 | 400,440
KINGSPORT HSG & REDEV AUTH | P.O. BOX 44, KINGSPORT, TN 37662 | 79 | 326,112
AUSTIN HSG AUTH | P.O. BOX 6159, AUSTIN, TX 78762 | 2 | 14,712
HOUSTON HSG AUTH | 2640 FOUNTAIN VIEW, HOUSTON, TX 77057 | 175 | 1,026,900
ARLINGTON HSG AUTH | 501 W. SANFORD, STE 20, ARLINGTON, TX 76011 | 23 | 136,896
GRAND PRAIRIE HSG AUTH | 201 NW, 2ND ST., SUITE 150, GRAND PRAIRIE, TX 75053 | 100 | 603,600
GARLAND HSG AUTH | 210 CARVER STREET, STE 201B, GARLAND, TX 75046 | 39 | 288,756
LANCASTER HSG AUTH | 525 WEST PLEASANT RUN RD STE K, LANCASTER, TX 75146 | 44 | 277,200
HARRIS COUNTY HSG AUTH | 8410 LANTERN POINT, HOUSTON, TX 77054 | 30 | 197,280
FAIRFAX CO RED & HSG AUTH | 3700 PENDER DRIVE, STE 300, FAIRFAX, VA 22030 | 51 | 408,204
VIRGINIA HSG DEV AUTH | 601 SOUTH BELVIDERE STREET, RICHMOND, VA 23220 | 59 | 276,120
HA OF COUNTY OF KING | 600 ANDOVER PARK WEST, TUKWILA, WA 98188 | 40 | 297,120
HA OF CITY OF TACOMA | 902 SOUTH “L” STREET SUITE 2C, TACOMA, WA 98405 | 18 | 94,824
HA OF CITY OF VANCOUVER | 2500 MAIN STREET, #200, VANCOUVER, WA 98660 | 24 | 138,816
RIVER FALLS HSG AUTH | 625 NORTH MAIN STREET, RIVER FALLS, WI 54022 | 6 | 24,408
DANE COUNTY HSG AUTH | 2001 W BROADWAY, SUITE 1, MONONA, WI 53713 | 22 | 119,328
Total for Terminations/Opt-outs | 7,125 | 41,694,798
Grand Total | 22,839 | 142,295,161

[FR Doc. 02-30363 Filed 11-29-02; 8:45 am]

BILLING CODE 4210-33-P